COORDINATING COUNCIL ON JUVENILE JUSTICE AND DELINQUENCY PREVENTION

[OJP (OJJDP) Docket No. 1421]

Meeting of the Coordinating Council on Juvenile Justice and Delinquency Prevention

AGENCY: Coordinating Council on Juvenile Justice and Delinquency Prevention.

ACTION: Notice of meeting.

SUMMARY: The Coordinating Council on Juvenile Justice and Delinquency Prevention (Council) is announcing the December 2, 2005, meeting of the Council.

DATES: Friday, December 2, 2005, 9:15 a.m.-12:30 p.m.

ADDRESSES: The meeting will take place at the Corporation for National and Community Service, 1201 New York Avenue, NW., Washington, DC 20525 in the eighth floor conference room.

FOR FURTHER INFORMATION CONTACT: Robin Delany-Shabazz, Designated Federal Official, by telephone at 202-307-9963, or by e-mail at robin.delany-shabazz@usdoj.gov.

SUPPLEMENTARY INFORMATION: The Coordinating Council on Juvenile Justice and Delinquency Prevention, established pursuant to section 3(2)A of the Federal Advisory Committee Act (5 U.S.C. App. 2) will meet to carry out its advisory functions under section 206 of the Juvenile Justice and Delinquency Prevention Act of 2002, 42 U.S.C. 5601, et seq. Documents such as meeting announcements, agendas, minutes, and interim and final reports will be available on the Council's Web page at http://www.JuvenileCouncil.gov. (You may also verify the status of the meeting at that Web address.)

Although designated agency representatives may attend, the Council membership is composed of the Attorney General (Chair), the Secretary of Health and Human Services, the Secretary of Labor, the Secretary of Education, the Secretary of Housing and Urban Development, the Administrator of the Office of Juvenile Justice and Delinquency Prevention (Vice Chair), the Director of the Office of National Drug Control Policy, the Chief Executive Officer of the Corporation for National and Community Service, and the Assistant Secretary for Homeland Security, Immigrations and Customs Enforcement. Nine additional members are appointed by the Speaker of the House of Representatives, the Senate Majority Leader, and the President of the United States.

Meeting Agenda

The agenda for this meeting will include: (a) A review of the past meeting and written public comments; (b) remarks from David Eisner, Chief Executive Officer of the Corporation for National and Community Service and other CNCS staff;(c) status of Council activities including joint projects and the January 2006 National Conference, “Building on Success: Providing Today's Youth With Opportunities for a Better Tomorrow”; (d) a demonstration of the Helping America's Youth state and local strategic planning tool; and (e) other business and announcements.

For security purposes, members of the public who wish to attend the meeting must pre-register by calling the Juvenile Justice Resource Center at 301-519-6473 (Daryel Dunston), no later than Monday, November 28, 2005. [Note: these are not toll-free telephone numbers.] Additional identification documents may be required. To register online, please go to http://www.JuvenileCouncil.gov/meetings.html. Space is limited.

Note: Photo identification will be required for admission to the meeting.

Written Comments

Interested parties may submit written comments by Monday, November 28, 2005, to Robin Delany-Shabazz, Designated Federal Official for the Coordinating Council on Juvenile Justice and Delinquency Prevention, at Robin.Delany-Shabazz@usdoj.gov. The Coordinating Council on Juvenile Justice and Delinquency Prevention expects that the public statements presented will not repeat previously submitted statements. No oral comments will be permitted at this meeting.

Dated: October 31, 2005.
J. Robert Flores,
Vice-Chair, Coordinating Council on Juvenile Justice and Delinquency Prevention.

[FR Doc. 05-22188 Filed 11-7-05; 8:45 am]

BILLING CODE 4410-18-P